DEPARTMENT OF DEFENSE

Department of the Army; Corps of Engineers

Intent To Prepare an Environmental Impact Statement for Denver Water's Moffat Collection System Project; Correction

AGENCY: Department of the Army, U.S. Army Corps of Engineers, DoD.

ACTION: Notice; dates correction.

SUMMARY: The public scoping meetings scheduled for October 7, 2003 and October 9, 2003 published in the Federal Register on September 17, 2003 (68 FR 54432) did not contain the street address for the locations.

FOR FURTHER INFORMATION CONTACT: Mr. Chandler Peter, (307) 772-2300.

Correction

In the Federal Register of September 17, 2003, in FR Doc. 03-23733, on page 54432, in the second column, correct items 1 and 3 in the DATES caption to read:

1. October 7, 2003, 7 to 9:30 p.m. at the Fairview High School Cafeteria, 1550 Greenbriar Boulevard, Boulder, CO.

3. October 9, 2003, 7 to 9:30 p.m. at The Inn at Silver Creek Convention Center, West Peak Room, 62927 US Highway 40, Silver Creek, CO.

Luz D. Ortiz,
Army Federal Register Liaison Officer.

[FR Doc. 03-24252 Filed 9-24-03; 8:45 am]

BILLING CODE 3710-62-M